COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes services from the Procurement List previously furnished by such agencies.

DATES: Date deleted from the Procurement List: October 7, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 8/3/2018 (83 FR 150), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Service Type: Janitorial/Custodial Service

Mandatory for: Veterans Affairs Medical Center: Outpatient Clinic, Pensacola, FL

Mandatory Source(s) of Supply: Lakeview Center, Inc., Pensacola, FL

Contracting Activity: DEPARTMENT OF VETERANS AFFAIRS, NAC

Service Type: Food Service

Mandatory for: Michigan Army National Guard: Maneuver Training Center, Building 426MA, Camp Grayling, MI

Mandatory Source(s) of Supply: G.W. Services of Northern Michigan, Inc., Traverse City, MI

Contracting Activity: Dept of the Army, W7NF USPFO ACTIVITY MI ARNG

Service Type: Administrative Service

Mandatory for: Fleet and Industrial Supply Center, 937 North Harbor Drive, San Diego, CA

Mandatory Source of Supply: Unknown

Contracting Activity: Dept of the Navy, U.S. Fleet Forces Command

Service Type: Janitorial Service

Mandatory for: U.S. Army Reserve Center, 2201 Laurens Road, Center #1, Greenville, SC

Mandatory Source(s) of Supply: SC Vocations & Individual Advancement, Inc., Greenville, SC

Contracting Activity: Dept of the Army, W074 ENDIST CHARLESTON

Service Type: Grounds Maintenance Service

Mandatory for: U.S. Army Corps of Engineers, Gallagher Memorial USARC, 1300 West Brown Road, Las Cruces, NM

Mandatory Source of Supply: Let's Go To Work, El Paso, TX

Contracting Activity: Dept of the Army, W075 ENDIST SACRAMENTO

Service Type: Janitorial/Custodial Service

Mandatory for: U.S. Army Reserve, Charles W. Whittlesey USARC, 200 Barker Road, Pittsfield, MA

Mandatory Source(s) of Supply: Berkshire County Association for Retarded Citizens, Inc., Pittsfield, MA

Contracting Activity: Dept of the Army, W6QK ACC-PICA

Service Type: Janitorial/Custodial Service

Mandatory for: Port Hueneme Naval Construction Battalion Center: Navy Family Housing Units, Port Hueneme, CA

Mandatory Source(s) of Supply: Unknown

Contracting Activity: Dept of the Navy, U.S. Fleet Forces Command

Service Type: Custodial Service

Mandatory for: Pentagon Building: Washington, DC

Federal Building #2, Food Court

Common area stairs and (plus): Corridors, 1st Floor, 2nd Floor, 3rd Floor

Au Bon Pain

B.C Café

Common area restrooms

Corridor 1 Food Court

Corridor 10 Food Court

Corridor 9/10 Apex, Five Star Expresso Coffee Bar

Five Star Expresso Coffee Bar, Federal Bldg #2

Grease and Garbage Room

Loading dock, 1st Floor, Wedge 1

Pentagon Dining Room and Kitchen

Production Kitchen

Wedge 1 Food Court

Mandatory Source(s) of Supply: The Chimes, Inc., Baltimore, MD

Contracting Activity: Dept of the Navy, U.S. Fleet Forces Command

Service Type: Recycling Service

Mandatory for: Crane Division, Naval Surface Warfare Center, 300 HWY 361, Crane, IN

Mandatory Source(s) of Supply: Orange County Rehabilitative and Developmental Services, Inc., Paoli, IN

Contracting Activity: Dept of the Navy, NSWC Crane

Service Type: Janitorial/Grounds Maintenance Service

Mandatory for: Federal Aviation Administration Air Traffic: JFK International Airport, Control Towers, Jamaica, NY

Mandatory Source of Supply: Fedcap Rehabilitation Services, Inc., New York, NY

Contracting Activity: Federal Aviation Administration, FAA

Michael R. Jurkowski,
Business Management Specialist.

[FR Doc. 2018-19421 Filed 9-6-18; 8:45 am]

BILLING CODE 6353-01-P